DEPARTMENT OF AGRICULTURE

Agricultural Marketing Service

[Doc. No. AMS-SC-24-0006]

Fruit and Vegetable Industry Advisory Committee: Notice of Intent To Renew Charter

AGENCY: Agricultural Marketing Service, USDA.

ACTION: Notice of intent to renew charter.

SUMMARY: Through this Notice, the Agricultural Marketing Service (AMS), U.S. Department of Agriculture (USDA), is announcing its intent to renew the Charter of the Fruit and Vegetable Industry Advisory Committee (FVIAC), which expires May 23, 2024.

DATES: The current FVIAC Charter expires on May 23, 2024.

Comments: Interested persons are invited to submit comments on this notice. Comments will be accepted until 11:59 p.m. Eastern Time on May 1, 2024, via https://www.regulations.gov: Document # AMS-SC-24-0006. AMS, Specialty Crops Program strongly prefers comments be submitted electronically. However, written comments may be submitted (i.e., postmarked) via mail to the person listed in the FOR FURTHER INFORMATION CONTACT section by or before the abovementioned deadline.

FOR FURTHER INFORMATION CONTACT: Jennie Varela, Senior Marketing Specialist, AMS Specialty Crops Program—U.S Department of Agriculture, 1124 1st Street South, Winter Haven, FL 33880. Jennie Varela serves as the Designated Federal Officer and can be reached by Telephone: (202) 658-8616 or by Email: SCPFVIAC@usda.gov. Mailing address: Jennie Varela, U.S. Department of Agriculture, AMS Specialty Crops Program—U.S Department of Agriculture, 1124 1st Street South, Winter Haven, FL 33880, Attn: Fruit and Vegetable Industry Advisory Committee.

SUPPLEMENTARY INFORMATION: Pursuant to the Federal Advisory Committee Act (FACA) (5 U.S.C. 10), notice is hereby given that the Secretary of Agriculture intends to reestablish the FVIAC for two years. The purpose of the FVIAC is to examine the full spectrum of issues faced by the fruit and vegetable industry and provide suggestions and ideas to the Secretary on how USDA can tailor its programs to better meet the fruit and vegetable industry's needs.

The Deputy Administrator of the AMS Specialty Crops Program serves as the FVIAC Executive Secretary. Representatives from USDA mission areas and agencies affecting the fruit and vegetable industry could be called upon to participate in the FVIAC's meetings as determined by the FVIAC Executive Secretary and the FVIAC. Industry members are appointed by the Secretary of Agriculture and serve 2-year terms, with a maximum of three 2-year terms. Up to 25 members shall represent: fruit and vegetable growers and/or shippers; fruit and vegetable wholesalers and/or receivers; brokers; retailers; fruit and vegetable processors and/or fresh-cut processors; foodservice suppliers; organic and/or non-organic farmers; farmers markets and community-supported agricultural organizations; state agriculture departments; and trade associations.

Equal opportunity practices in accordance with USDA's policies will be followed in all member appointments to the FVIAC. To ensure that the recommendations of the FVIAC have considered the needs of the diverse groups served by USDA, membership shall include, to the extent possible, individuals with demonstrated ability to represent the many communities, identities, races, ethnicities, backgrounds, abilities, cultures, and beliefs of the American people, including underserved communities.

The Charter for the FVIAC will be available on the website at: https://www.ams.usda.gov/about-ams/facas-advisory-councils/fviac or may be requested by contacting the person listed in the FOR FURTHER INFORMATION CONTACT section of this notice.

The USDA prohibits discrimination in all of its programs and activities on the basis of race, color, national origin, religion, sex, gender identity (including gender expression), sexual orientation, disability, age, marital status, family/parental status, political beliefs, income derived from a public assistance program, or reprisal or retaliation for prior civil rights activity in any program or activity conducted or funded by USDA (not all bases apply to all programs).

Dated: March 20, 2024.
Cikena Reid,
Committee Management Officer.

[FR Doc. 2024-06356 Filed 3-25-24; 8:45 am]

BILLING CODE 3410-02-P